DEPARTMENT OF HEALTH AND HUMAN SERVICES

National Institutes of Health

National Institute of Neurological Disorders and Stroke; Muscular Dystrophy Coordinating Committee; Notice of Meeting

Pursuant to section 10(a) of the Federal Advisory Committee Act, as amended (5 U.S.C. Appendix 2), notice is hereby given of the first meeting of the Muscular Dystrophy Coordinating Committee.

The meeting will be open to the public, with attendance limited to space available. Individuals who plan to attend and need special assistance, such as sign language interpretation or other reasonable accommodations, should inform the contact person listed below in advance of the meeting.

Name of Committee: Muscular Dystrophy Coordinating Committee.

Date: July 1, 2003.

Time: 9 a.m. to 3:30 p.m.

Agenda: The purpose of this first meeting of the Muscular Dystrophy Coordinating Committee (MDCC) is to inform committee members about the role of the MDCC, to learn about the collective experience on the committee, and to design a strategy for developing a research and education plan on muscular dystrophy. Committee members will discuss the activities at their agency or organization relevant to muscular dystrophy research and education and will also present their ideas and expectations for the MDCC.

Place: Democracy II, 6707 Democracy Blvd., Room 701, Bethesda, Maryland 20892.

Contact Person: Lorraine Fitzsimmons, Executive Secretary, Muscular Dystrophy Coordinating Committee, Director, Office of Science Policy and Planning, National Institute of Neurological Disorders and Stroke, NIH, 31 Center Drive, Room 8A03, MSC 2540, Bethesda, MD 20892, Email: fitzsiml@ninds.nih.gov, Phone: (301) 496-9271.

(Catalogue of Federal Domestic Assistance Program Nos. 93.853, Clinical Research Related to Neurological Disorders; 93.854, Biological Basis Research in the Neurosciences, National Institutes of Health, HHS)

Dated: May 20, 2003.
LaVerne Y. Stringfield,
Director, Office of Federal Advisory Committee Policy.

[FR Doc. 03-13361 Filed 5-28-03; 8:45 am]

BILLING CODE 4140-01-M